NUCLEAR REGULATORY COMMISSION

[Docket No. 70-143; NRC-2009-0435]

Nuclear Fuel Services, Inc., Erwin, TN; Issuance of License Renewal

AGENCY: U.S. Nuclear Regulatory Commission.

ACTION: Notice of issuance of license renewal.

FOR FURTHER INFORMATION CONTACT: Kevin M. Ramsey, Project Manager, Office of Nuclear Material Safety and Safeguards, U.S. Nuclear Regulatory Commission, Washington, DC 20555-0001; telephone: 301-492-3123; email: Kevin.Ramsey@nrc.gov.

SUPPLEMENTARY INFORMATION:

I. Introduction

Pursuant to Section 2.106 of Title 10 of the Code of Federal Regulations (10 CFR), the U.S. Nuclear Regulatory Commission (NRC or the Commission) is providing notice of the issuance of License Renewal to Material License No. SNM-124, to Nuclear Fuel Services, Inc. (the licensee), which authorizes the licensee to continue fabricating reactor fuel for commercial and government customers at the licensee's facility in Erwin, Tennessee. The licensee's request for renewal of its license was previously noticed in the Federal Register on October 6, 2009 (74 FR 51323), with a notice of an opportunity to request a hearing. No hearing requests were received. In accordance with 10 CFR Part 51, an environmental assessment of this action was completed and a finding of no significant impact was published in the Federal Register on October 26, 2011 (76 FR 66334).

This license renewal complies with the standards and requirements of the Atomic Energy Act of 1954, as amended, and the NRC's rules and regulations as set forth in 10 CFR Chapter 1. Accordingly, this license renewal was issued on August 2, 2012, and is effective immediately.

II. Further Information

The NRC has prepared a Safety Evaluation Report (SER) that documents the information that was reviewed and the NRC's conclusion. In accordance with 10 CFR 2.390 of the NRC's “Rules of Practice,” details with respect to this action, including the SER and accompanying documentation included in the license renewal package, are available online in the NRC Library at http://www.nrc.gov/reading-rm/adams.html. From this site, you can access the NRC's Agencywide Documents Access and Management System (ADAMS), which provides text and image files of the NRC's public documents. The ADAMS Accession Numbers for documents related to this Notice are ML113040421 (License Renewal) and ML112560265 (Final Environmental Assessment). If you do not have access to ADAMS or if there are problems in accessing the documents located in ADAMS, contact the NRC's Public Document Room (PDR) Reference staff at 1-800-397-4209, 301-415-4737 or by email to pdr.resource@nrc.gov.

These documents may also be viewed electronically on the public computers located at the NRC's PDR, Room O-1F21, One White Flint North, 11555 Rockville Pike, Rockville, Maryland 20852. The PDR reproduction contractor will copy documents for a fee.

Dated at Rockville, Maryland, this 20th day of September 2012.
For the U.S. Nuclear Regulatory Commission.
Kevin M. Ramsey,
Project Manager, Fuel Manufacturing Branch, Division of Fuel Cycle Safety and Safeguards, Office of Nuclear Material Safety and Safeguards.

[FR Doc. 2012-24148 Filed 9-28-12; 8:45 am]

BILLING CODE 7590-01-P